INTERNATIONAL TRADE COMMISSION

[USITC SE-15-006]

Government in the Sunshine Act Meeting Notice

AGENCY HOLDING THE MEETING: United States International Trade Commission.

TIME AND DATE: February 5, 2015 at 2 p.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-458 and 731-TA-1154 (Review) (Certain Kitchen Appliance Shelving and Racks from China). The Commission is currently scheduled to complete and file its determinations and views of the Commission on February 24, 2015.

5. Outstanding action jackets: none.

In accordance with Commission policy, subject matter listed above, not disposed of at the scheduled meeting, may be carried over to the agenda of the following meeting.

Issued: January 21, 2015.
By order of the Commission.
William R. Bishop,
Supervisory Hearings and Information Officer.

[FR Doc. 2015-01387 Filed 1-22-15; 11:15 am]

BILLING CODE 7020-02-P